DEPARTMENT OF COMMERCE

National Oceanic and Atmospheric Administration

[RTID 0648-XA964]

Marine Mammals; File No. 23896

AGENCY: National Marine Fisheries Service (NMFS), National Oceanic and Atmospheric Administration (NOAA), Commerce.

ACTION: Notice; receipt of application.

SUMMARY: Notice is hereby given that the Aleut Community of St. Paul Island, Tribal Government Ecosystem Conservation Office, 2050 Venia Minor Road, St. Paul Island, AK 99660 (Responsible Party: Lauren Divine, Ph.D.), has applied in due form for a permit to conduct research on northern fur seals (Callorhinus ursinus).

DATES: Written, telefaxed, or email comments must be received on or before April 29, 2021.

ADDRESSES: The application and related documents are available for review by selecting “Records Open for Public Comment” from the “Features” box on the Applications and Permits for Protected Species (APPS) home page, https://apps.nmfs.noaa.gov, and then selecting File No. 23896 from the list of available applications. These documents are available upon written request via email to NMFS.Pr1Comments@noaa.gov.

Written comments on this application should be submitted via email to NMFS.Pr1Comments@noaa.gov. Please include File No. 23896 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The Aleut Community of St. Paul Island proposes to conduct research on northern fur seals to fulfill their responsibilities as established under the co-management agreements between NMFS and the Aleut Communities on St. Paul Island, Alaska. All activities are organized into five projects: (1) Assessing and monitoring the marine mammal population; (2) Assessing disturbance using VHF; (3) Assessing habitat use; (4) Salvage of parts for a biosampling program; and (5) Studying entanglement rates of northern fur seals. The applicant requests to take up to 600 northern fur seals annually by capture and handling. Procedures to be performed on handled animals include mark (flipper tag), VHF tags, measure, restrain, and weighing. The applicant requests to take up to 400 northern fur seals annually through salvage of parts. Up to 35,000 northern fur seals may be taken annually by harassment during ground surveys, unmanned aircraft systems surveys, observation, photograph/video, as well as one unintentional mortality, including humane euthanasia if necessary. Up to 2,330 Steller sea lions (Eumetopias jubatus) may be harassed annually for the proposed projects, including 100 during salvage of parts. Up to 610 harbor seals (Phoca vitulina) may be harassed annually, including 50 during salvage of parts. An unlimited number of samples may be salvaged from stranded marine mammals including up to ten unidentified cetaceans and up to ten unidentified pinnipeds annually. Parts salvaged from all marine mammal species described here may be imported or exported. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 24, 2021.
Julia Marie Harrison,
Chief, Permits and Conservation Division, Office of Protected Resources, National Marine Fisheries Service.

[FR Doc. 2021-06455 Filed 3-29-21; 8:45 am]

BILLING CODE 3510-22-P